DEPARTMENT OF EDUCATION

[Docket No.: ED-2016-ICCD-0030]

Agency Information Collection Activities; Comment Request; Study of Title I Schoolwide and Targeted Assistance Programs

AGENCY: Office of Planning, Evaluation and Policy Development (OPEPD), Department of Education (ED).

ACTION: Notice.

SUMMARY: In accordance with the Paperwork Reduction Act of 1995 (44 U.S.C. chapter 3501 et seq.), ED is proposing a new information collection.

DATES: Interested persons are invited to submit comments on or before May 17, 2016.

ADDRESSES: To access and review all the documents related to the information collection listed in this notice, please use http://www.regulations.gov by searching the Docket ID number ED-2016-ICCD-0030. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-103, Washington, DC 20202-4537.

FOR FURTHER INFORMATION CONTACT: For specific questions related to collection activities, please contact Cassidy Walsh, 202-260-2493.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Title I Schoolwide and Targeted Assistance Programs.

OMB Control Number: 1875—NEW.

Type of Review: A new information collection.

Respondents/Affected Public: State, Local, and Tribal Governments.

Total Estimated Number of Annual Responses: 2,104.

Total Estimated Number of Annual Burden Hours: 2,598.

Abstract: The U.S. Department of Education (Department) requests OMB clearance for data collection activities associated with the Study of Title I Schoolwide and Targeted Assistance Programs. The purpose of this study is to provide a detailed analysis of the types of strategies and activities implemented in title I schoolwide program (SWP) and targeted assistance program (TAP) schools, how different configurations of resources are used to support these strategies, and how local officials make decisions about the use of these varied resources. To this end, the study team will conduct site visits to a set of 40 case study schools that will involve in-person and telephone interviews with title I district officials and school staff involved in title I administration. In addition, the study team will collect and review relevant extant data and administer surveys to a nationally representative sample of principals and school district administrators. Both the case study and survey samples include title I SWP and TAP schools. Clearance is requested for the case study and survey components of the study, including its purpose, sampling strategy, data collection procedures, and data analysis approach.

Dated: March 15, 2016.
Kate Mullan,
Acting Director, Information Collection Clearance Division, Office of the Chief Privacy Officer, Office of Management.

[FR Doc. 2016-06147 Filed 3-17-16; 8:45 am]

BILLING CODE 4000-01-P